DEPARTMENT OF HEALTH AND HUMAN SERVICES

National Institutes of Health

Proposed Collection; 60-Day Comment Request; A National Survey of Nurse Coaches (CC)

SUMMARY: To provide opportunity for public comment on proposed data collection projects, the National Institutes of Health Clinical Center (CC) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Alyson Ross, Nurse Researcher, Department of Nursing Research and Translational Science, NIH Clinical Center, Building 10, Room 2B07, MSC-1151, Bethesda, Maryland, 20892 or call non-toll-free number (301) 451-8338 or Email your request, including your address to: Alyson.ross@nih.gov. Formal requests for additional plans and instruments must be requested in writing.

SUPPLEMENTARY INFORMATION: In compliance with the requirement of Section 3506(c)(2)(A) of the Paperwork Reduction Act of 1995, written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection: Title: A National Survey of Nurse Coaches, 0925—NEW, National Institutes of Health Clinical Center (CC), National Institutes of Health (NIH).

Need and Use of Information Collection: The purpose of this survey is to describe the role of Certified Nurse Coaches in order to gain insight into their clinical practice including: The settings in which they work, the types of clients/health conditions they see, the types of client records maintained and outcomes followed, as well as the personal benefits experienced by nurse coaches as a result of becoming a nurse coach. It provides information regarding two areas of interest to the CC Department of Nursing Research and Translational Science: The collection of patient-reported outcomes in novel clinical practice areas and the physical and psychosocial benefits of an intervention in nurses, a professional caregiver population. This study will provide preliminary data and guidance in: 1. Developing recommendations for collecting outcomes to longitudinally assess the effectiveness nurse coaching, and 2. developing an intervention to improve patient care targeting the nursing staff at the NIH Clinical Center.

OMB approval is requested for 1 year. There are no costs to respondents other than their time. The total estimated annualized burden hours are 104.

Estimated Annualized Burden Hours
Type of respondent | Number of respondents | Number of responses per respondent | Average time per response (in hours) | Total annual burden hour
Certified nurse coaches | 250 | 1 | 25/60 | 104
Total | 250 | 250 |  | 104

Dated: August 15, 2016.
Laura M. Lee,
Project Clearance Liaison, NIH Clinical Center, National Institutes of Health.

[FR Doc. 2016-19823 Filed 8-19-16; 8:45 am]

BILLING CODE 4140-01-P